DEPARTMENT OF TRANSPORTATION

Federal Aviation Administration

14 CFR Part 39

[Docket No. 2003-NE-50-AD; Amendment 39-13980; AD 2005-04-08]

RIN 2120-AA64

Airworthiness Directives; Hartzell Propeller Inc. Model HC-B3TN-5( )/T10282( ) Propellers

AGENCY: Federal Aviation Administration (FAA), DOT.

ACTION: Final rule.

SUMMARY: The FAA is superseding an existing Priority Letter Airworthiness Directive (AD) for Hartzell Propeller Inc. model HC-B3TN-5( )/T10282( ) propellers. That AD currently requires initial and repetitive inspections of the blade pilot tube bore area. This ad requires the same inspections. This AD results from a review of all currently effective ADs. That review determined that Priority Letter AD 88-24-15 was not published in the Federal Register to make it effective to all operators, as opposed to just the operators who received actual notice of the original Priority Letter AD. This AD also results from the discovery that the original AD omitted an airplane model with a certain Supplemental Type Certificate (STC) from the applicability. We are issuing this AD to prevent possible blade failure near the hub which can result in blade separation, engine separation, damage to the airplane, and possible loss of the airplane.

DATES: This AD becomes effective March 29, 2005. The Director of the Federal Register approved the incorporation by reference of certain publications listed in the regulations as of March 29, 2005.

ADDRESSES: Contact Hartzell Propeller Inc. Technical Publications Department, One Propeller Place, Piqua, OH 45356; telephone (937) 778-4200; fax (937) 778-4391, for the service information identified in this AD.

You may examine the AD docket at the FAA, New England Region, Office of the Regional Counsel, 12 New England Executive Park, Burlington, MA. You may examine the service information, at the FAA, New England Region, Office of the Regional Counsel, 12 New England Executive Park, Burlington, MA; or at the National Archives and Records Administration (NARA). For information on the availability of this material at NARA, call 202-741-6030, or go to: http://www.archives.gov/federal_register/code_of_federal_regulations/ibr_locations.html.

FOR FURTHER INFORMATION CONTACT: Melissa T. Bradley, Aerospace Engineer, Chicago Aircraft Certification Office, FAA, Small Airplane Directorate, 2300 East Devon Avenue, Des Plaines, IL 60018; telephone (847) 294-8110; fax (847) 294-7834.

SUPPLEMENTARY INFORMATION: The FAA proposed to amend 14 CFR Part 39 with a proposed airworthiness directive (AD). The proposed AD applies to Hartzell Propeller Inc. model HC-B3TN-5( )/T10282( ) propellers. We published the proposed AD in the Federal Register on July 22, 2004 (69 FR 43775). That action proposed to require initial and repetitive inspections of the blade pilot tube bore area.

Examining the AD Docket

You may examine the AD Docket (including any comments and service information), by appointment, between 8 a.m. and 4:30 p.m., Monday through Friday, except Federal holidays. See ADDRESSES for the location.

Comments

We provided the public the opportunity to participate in the development of this AD. We have considered the one comment received.

Request To Change the Compliance Time

One commenter, Hartzell Propeller Inc., requests that we change the compliance time to a much more aggressive compliance requirement, to the point of grounding those operators who did not follow the Priority Letter AD, regardless of whether they were legally obligated to do so or not. The commenter states that the NPRM we published, which is 16 years beyond the Priority Letter AD effective date, extends compliance to 500 hours after the effective date of the yet-to-be published final rule AD. The Priority Letter AD either identified, or was the result of, cracks found on two blades installed in the same propeller, and two occurrences of blade separation on two other propellers. All events were from fractures initiating at the same general location in the blade bore. Hartzell issued Service Bulletin No. 161, dated May 18, 1989, as a counterpart to the Priority Letter AD. Hartzell further states that since many operators of this type of aircraft overhaul their propellers, compliance to the Priority Letter AD was likely accomplished, intentionally or otherwise, as part of the overhaul process. However, if an operator did not receive or acknowledge the Priority Letter AD, and if they did not overhaul their propellers, they are flying at increased risk of failure. Hartzell further states that the published NPRM provides inappropriate relaxation and should be revised.

We do not agree. To justify the suggested change in compliance time, we would need supporting data. However, service history has shown that there has been no occurrence of this failure mode subsequent to the issuance of the Priority Letter AD.

Conclusion

We have carefully reviewed the available data, including the comment received, and determined that air safety and the public interest require adopting the AD as proposed.

Costs of Compliance

By adding STC SA345GL to the applicability, there are about 50 additional Hartzell Propeller Inc. model HC-B3TN-5( )/T10282( ) propellers of the affected design in the worldwide fleet. Including the additional applicability, we estimate a total of 500 propellers have been installed on airplanes of U.S. registry and would be affected by this AD. We also estimate that it would take about 2.5 work hours per propeller blade to perform the actions, and that the average labor rate is $65 per work hour. Based on these figures, we estimate the total cost of the AD to U.S. operators is $243,750.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-NE-50-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding a new airworthiness directive, Amendment 39-13980, to read as follows:

2005-04-08 Hartzell Propeller Inc.: Amendment 39-13980. Docket No. 2003-NE-50-AD.

Effective Date

(a) This AD becomes effective March 29, 2005.

Affected ADs

(b) This AD supersedes Priority Letter AD 88-24-15.

Applicability

(c) This AD applies to Hartzell Propeller Inc. model HC-B3TN-5( )/T10282( ) propellers installed on the airplane and engine combinations shown in the following Table 1 (excluding propellers with blades part number (P/N) T10282N( ), T10282NB( ), T10282NK( ), or T10282NE( ) installed).

Table 1.—Applicability
Airplane model | Propeller model | Engine model
Fairchild SA226-TC |  |
Fairchild SA226-AT | HC-B3TN-5( )/T10282( ) | Garrett TPE331-10UA-511G
Fairchild SA226-T |  |

(d) For reference, airplanes incorporating Supplemental Type Certificates (STCs) SA344GL-D, SA4872SW, and SA345GL-D have these engine, propeller, and airplane combinations.

(e) The parentheses appearing in the propeller model number indicates the presence or absence of an additional letter(s) that varies the basic propeller model. This AD still applies regardless of whether these letters are present or absent in the propeller model designation.

Unsafe Condition

(f) This AD results from a review of all currently effective ADs. That review determined that Priority Letter AD 88-24-15 was not published in the Federal Register to make it effective to all operators, as opposed to just the operators who received actual notice of the original Priority Letter AD. This AD also results from the discovery that the original AD omitted an airplane model with a certain STC from the applicability. We are issuing this AD to prevent possible blade failure near the hub which can result in blade separation, engine separation, damage to the airplane, and possible loss of the airplane.

Compliance

(g) You are responsible for having the actions required by this AD performed within the compliance times specified unless the actions have already been done.

Required Actions

(h) Within 10 hours time-in-service (TIS) after the effective date of this AD, perform a document search to determine if the following actions have been done:

(1) The propeller blades meet the initial and repetitive compliance requirements of Priority Letter AD 88-24-15.

(2) The P/N T10282( ) propeller blades have been replaced with P/N T10282N( ), T10282NB( ), T10282NK( ), or T10282NE( ) propeller blades.

(i) If the actions in paragraph (h)(1) or (h)(2) of this AD have not been done, then do one of the following:

(1) Inspect the blades using Paragraph 3 of the Accomplishment Instructions of Hartzell Service Bulletin (SB) No. 136, Revision Letter “I,” dated April 25, 2003, within 500 hours time-since-new (TSN) or time-since-last-overhaul (TSLO) and not to exceed two years after the effective date of this AD, whichever occurs first; and thereafter within 500 service-hour intervals; or

(2) Replace with P/N T10282N( ), T10282NB( ), T10282NK( ), or T10282NE( ) propeller blades as applicable, within 500 hours TSN or TSLO and not to exceed two years after the effective date of this AD, whichever occurs first.

(j) If the actions in paragraph (h)(1) of this AD have been done, but not the actions in paragraph (h)(2) of this AD, then do the following:

(1) Inspect the blades within 500 hours since the last Hartzell SB No. 136E, or later Revision, inspection, and thereafter within 500 service hour intervals, using Paragraph 3 of the Accomplishment Instructions of Hartzell SB No. 136, Revision Letter “I,” dated April 25, 2003.

(2) Replace before further flight all blades showing evidence of cracks or other unairworthy conditions, as noted in Hartzell SB No. 136, Revision Letter “I,” dated April 25, 2003, with airworthy blades.

Hartzell SB No. 136

(k) Since Hartzell SB No. 136E was issued, the SB has been revised to 136F, 136G, 136H, and 136I. Any of these revisions are suitable for determining past compliance, as they are all approved as alternative methods of compliance (AMOC). After the effective date of this AD, compliance is restricted to SB No. 136, Revision Letter “I,” or later versions when approved by an AMOC.

Optional Terminating Action

(l) Installation of propeller blades, P/N T10282N( ), T10282NB( ), T10282NK( ), or T10282NE( ) as applicable, onto a Hartzell Propeller Inc. model HC-B3TN-5( ) propeller constitutes terminating action to the inspections, repairs, and replacements specified in paragraphs (i) through (j)(2) of this AD.

Alternative Methods of Compliance

(m) The Manager, Chicago Aircraft Certification Office, has the authority to approve alternate methods of compliance for this AD if requested using the procedures found in 14 CFR 39.19.

Material Incorporated by Reference

(n) You must use Hartzell SB No. 136 (HC-SB-61-136), Revison Letter “I,” dated April 25, 2003, to perform the inspections required by this AD. The Director of the Federal Register approved the incorporation by reference of this service bulletin in accordance with 5 U.S.C. 552(a) and 1 CFR part 51. You can get a copy from Hartzell Propeller Inc. Technical Publications Department, One Propeller Place, Piqua, OH 45356; telephone (937) 778-4200; fax (937) 778-4391. You can review copies at the FAA, New England Region, Office of the Regional Counsel, 12 New England Executive Park, Burlington, MA, or at the National Archives and Records Administration (NARA). For information on the availability of this material at NARA, call 202-741-6030, or go to: http://www.archives.gov/federal_register/code_of_federal_regulations/ibr_locations.html.

Related Information

(o) None.

Issued in Burlington, Massachusetts, on February 11, 2005.
Jay J. Pardee,
Manager, Engine and Propeller Directorate, Aircraft Certification Service.

[FR Doc. 05-3046 Filed 2-18-05; 8:45 am]

BILLING CODE 4910-13-P